DEPARTMENT OF HEALTH AND HUMAN SERVICES

National Institutes of Health

Center for Scientific Review; Amended Notice of Meeting

Notice is hereby given of a change in the meeting of the Electrical Signaling, Ion Transport, and Arrhythmias Study Section, October 4, 2013, 08:00 a.m. to October 4, 2013, 06:00 p.m., Hotel Kabuki, 1625 Post Street, San Francisco, CA 94115, which was published in the Federal Register on September 09, 2013, 78 FR 55087.

The meeting will be held on December 6, 2013, 8:00 a.m. to 6:00 p.m. at the Double Tree by Hilton, Bethesda, 8120 Wisconsin Avenue, Bethesda MD, 20814. The meeting is closed to the public.

Dated: October 29, 2013.
Melanie J. Gray,
Program Analyst, Office of Federal Advisory Committee Policy.

[FR Doc. 2013-26209 Filed 11-1-13; 8:45 am]

BILLING CODE 4140-01-P